NATIONAL FOUNDATION ON THE ARTS AND THE HUMANITIES

National Endowment for the Arts; Arts Advisory Panel

Pursuant to Section 10(a)(2) of the Federal Advisory Committee Act (Pub. L. 92-463), as amended, notice is hereby given that eleven meetings of the Arts Advisory Panel to the National Council on the Arts will be held at the Nancy Hanks Center, 1100 Pennsylvania Avenue, NW., Washington, DC, 20506 as follows (ending times are approximate):

Visual Arts (application review): November 30-December 2, 2010 in Room 716. This meeting, from 9 a.m. to 5:30 p.m. each day, will be closed.

Music (application review): November 30-December 3, 2010 in Room 714. This meeting, from 9 a.m. to 5:30 p.m. on November 30th-December 2nd and from 9 a.m. to 2:30 p.m. on December 3rd, will be closed.

Literature (application review): December 1-2, 2010 in Room 730. A portion of this meeting, from 1 p.m. to 1:30 p.m. on December 2nd, will be open to the public for a policy discussion. The remainder of the meeting, from 9 a.m. to 6:30 p.m. on December 1st and from 9 a.m. to 1 p.m. and 1:30 p.m. to 5 p.m. on December 2nd, will be closed.

Literature (application review): December 3, 2010 in Room 730. This meeting, from 9 a.m. to 5 p.m., will be closed.

Arts Education (application review): December 6, 2010 in Room 730. This meeting, from 9 a.m. to 6 p.m., will be closed.

Museums (application review): December 6-8, 2010 in Room 716. This meeting, from 9 a.m. to 5:30 p.m. on December 6th, from 9 a.m. to 6 p.m. on December 7th, and from 9 a.m. to 4 p.m. on December 8th, will be closed.

Theater (application review): December 7-10, 2010 in Room 714. A portion of this meeting, from 9 a.m. to 10 a.m. on December 9th, will be open to the public for a policy discussion. The remainder of the meeting, from 9 a.m. to 5:30 p.m. on December 7th, from 9 a.m. to 6 p.m. on December 8th, from 10 a.m. to 6 p.m. on December 9th, and from 9 a.m. to 3 p.m. on December 10th, will be closed.

Media Arts (application review): December 8-10, 2010 in Room 730. This meeting, from 9 a.m. to 5:45 p.m. on December 8th, from 9 a.m. to 6 p.m. on December 9th, and from 9 a.m. to 4 p.m. on December 10th, will be closed.

Opera (application review): December 9-10, 2010 in Room 716. This meeting, from 9 a.m. to 6 p.m. on December 9th and from 9 a.m. to 2 p.m. on December 10th, will be closed.

Opera (application review): December 10, 2010 in Room 716. This meeting, from 3 p.m. to 3:45 p.m., will be closed.

Presenting (application review): December 14-16, 2010 in Room 714. This meeting, from 9 a.m. to 5:30 p.m. on December 14th and 15th and from 9 a.m. to 3:30 p.m. on December 16th, will be closed.

The closed portions of meetings are for the purpose of Panel review, discussion, evaluation, and recommendations on financial assistance under the National Foundation on the Arts and the Humanities Act of 1965, as amended, including information given in confidence to the agency. In accordance with the determination of the Chairman of November 10, 2009, these sessions will be closed to the public pursuant to subsection (c)(6) of section 552b of Title 5, United States Code.

Any person may observe meetings, or portions thereof, of advisory panels that are open to the public, and if time allows, may be permitted to participate in the panel's discussions at the discretion of the panel chairman. If you need any accommodations due to a disability, please contact the Office of AccessAbility, National Endowment for the Arts, 1100 Pennsylvania Avenue, NW., Washington, DC 20506, 202/682-5532, TDY-TDD 202/682-5496, at least seven (7) days prior to the meeting.

Further information with reference to these meetings can be obtained from Ms. Kathy Plowitz-Worden, Office of Guidelines & Panel Operations, National Endowment for the Arts, Washington, DC, 20506, or call 202/682-5691.

Dated: November 8, 2010.
Kathy Plowitz-Worden,
Panel Coordinator, Panel Operations, National Endowment for the Arts.

[FR Doc. 2010-28481 Filed 11-10-10; 8:45 am]

BILLING CODE 7537-01-P